DEPARTMENT OF ENERGY

Federal Energy Regulatory Commission

[Docket No. RP04-19-000]

El Paso Natural Gas Company; Notice of Proposed Changes in FERC Gas Tariff

October 7, 2003.

Take notice that on October 2, 2003, El Paso Natural Gas Company (El Paso) tendered for filing as part of its FERC Gas Tariff, Second Revised Volume No. 1-A, the following tariff sheets, to become effective November 5, 2003:

Seventh Revised Sheet No. 214

Original Sheet No. 214A

Seventh Revised Sheet No. 215

El Paso states that these tariff sheets, being filed as a result of the technical conference held September 24, 2003 at Docket No. RP00-336-014, are designed to provide additional scheduling flexibility for El Paso's shippers, and are filed to propose a tiered scheduling priority for firm service under Rate Schedule FT-1.

Any person desiring to be heard or to protest said filing should file a motion to intervene or a protest with the Federal Energy Regulatory Commission, 888 First Street, NE., Washington, DC 20426, in accordance with Sections 385.214 or 385.211 of the Commission's Rules and Regulations. All such motions or protests must be filed in accordance with ¶ 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 14, 2003.

Linda Mitry,
Acting Secretary.

[FR Doc. 03-26068 Filed 10-14-03; 8:45 am]

BILLING CODE 6717-01-P